NUCLEAR WASTE TECHNICAL REVIEW BOARD

Board Meeting

The U.S. Nuclear Waste Technical Review Board will hold a hybrid (in-person/virtual) public meeting on September 13-14, 2022.

Board meeting: September 13-14, 2022—The U.S. Nuclear Waste Technical Review Board will hold a hybrid (in-person/virtual) public meeting in Arlington, Virginia, to review information on the U.S. Department of Energy's (DOE) research and development (R&D) activities related to the geologic disposal of spent nuclear fuel (SNF) and high-level radioactive waste (HLW) in clay-bearing host rocks and R&D on clay-based engineered barriers.

Pursuant to its authority under section 5051 of Public Law 100-203, Nuclear Waste Policy Amendments Act (NWPAA) of 1987, the U.S. Nuclear Waste Technical Review Board will hold a hybrid (in-person/virtual) public meeting in Arlington, Virginia, on Tuesday, September 13, 2022, and Wednesday, September 14, 2022, to review information on the U.S. Department of Energy's (DOE) research and development (R&D) activities related to the geologic disposal of spent nuclear fuel (SNF) and high-level radioactive waste (HLW) in clay-bearing host rocks and R&D on clay-based engineered barriers.

The Board meeting will be held at the Holiday Inn National Airport/Crystal City, 2650 Richmond Highway, Arlington, VA 22202. The hotel telephone number is (703) 684-7200.

The meeting will begin on both days at 12:00 p.m. Eastern Daylight Time (EDT) and is scheduled to adjourn at 5:00 p.m. EDT. Speakers from the DOE Office of Nuclear Energy, and the national laboratories conducting the work for DOE, will present work on a range of studies, including modeling the long-term integrity of the host rock, design of the engineered barrier system (EBS), high-temperature experiments involving the EBS, coupled processes in the EBS, and integration of computer models of the EBS and host rock into the Geologic Disposal Safety Assessment Framework. Speakers from Spain and Switzerland will present information on efforts to understand coupled processes in clay-based barriers and clay-bearing host rocks and efforts to develop a safety case for disposal in a clay-bearing host rock. A detailed meeting agenda will be available on the Board's website at www.nwtrb.gov approximately one week before the meeting.

The meeting will be open to the public and there will be an opportunity for public comment at the end of each day. Those attending the meeting in person and wanting to provide oral comments are encouraged to sign the Public Comment Register at the check-in table near the entrance to the meeting room. Oral commenters will be taken in the order in which they signed in. Public comments can also be submitted during the meeting via the online meeting viewing platform, using the “Comment for the Record” form. Comments submitted online during each day of the meeting will be read into the record by Board staff during the public comment period just prior to adjournment. Depending on the number of speakers and online comments, a time limit on individual remarks may be set. However, written comments of any length may be submitted to the Board staff by mail or electronic mail. All comments received in writing will be included in the meeting record, which will be posted on the Board's website after the meeting. An archived recording of the meeting will be available on the Board's website following the meeting, and a transcript of the meeting will be available on the website by November 14, 2022.

The in-person public meeting will follow the COVID-19 precautions mandated by Arlington County, Virginia. Meeting attendees should observe community guidelines in place at the time of the meeting. The Board will post an update on its website if the meeting changes to a virtual-only meeting. Attendees also are encouraged to pre-register to reduce their time signing in. If the meeting changes to a virtual-only format, those who pre-registered will be notified of the change.

The Board was established in the Nuclear Waste Policy Amendments Act of 1987 as an independent federal agency in the Executive Branch to evaluate the technical and scientific validity of DOE activities related to the management and disposal of SNF and HLW, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Bret Leslie at leslie@nwtrb.gov or Chandrika Manepally at manepally@nwtrb.gov. For information on logistics, to pre-register for the in-person meeting, or to request copies of the meeting agenda or transcript, contact Davonya Barnes at barnes@nwtrb.gov. All three may be reached by mail at 2300 Clarendon Boulevard, Suite 1300, Arlington, VA 22201-3367; by telephone at 703-235-4473; or by fax at 703-235-4495.

Dated: August 15, 2022.
Daniel G. Ogg,
Acting Executive Director, U.S. Nuclear Waste Technical Review Board.

[FR Doc. 2022-17772 Filed 8-17-22; 8:45 am]

BILLING CODE 6820-AM-P